DEPARTMENT OF COMMERCE

International Trade Administration

[A-428-830]

Stainless Steel Bar from Germany: Amended Final Results of Antidumping Duty Administrative Review

AGENCY: Import Administration, International Trade Administration, Department of Commerce.

EFFECTIVE DATE: September 1, 2006.

FOR FURTHER INFORMATION CONTACT: Brandon Farlander or Audrey Twyman, AD/CVD Operations, Office 1, Import Administration, International Trade Administration, U.S. Department of Commerce, 14th Street and Constitution Avenue, NW, Washington, DC 20230; telephone: (202) 482-0182 or (202) 482-3534, respectively.

SUPPLEMENTARY INFORMATION:

Background

On July 28, 2006, the Department of Commerce (the “Department”) published in the Federal Register the final results of the third administrative review of stainless steel bar from Germany.¹ This review covered the period March 1, 2004, through February 28, 2005. On July 31, 2006, Carpenter Technology Corp., Crucible Specialty Metals Division of Crucible Materials Corp., and Electralloy Corp. (collectively, “petitioners”) submitted ministerial error allegations filed pursuant to 19 CFR 351.224(c). On August 7, 2006, BGH Edelstahl Freital GmbH, BGH Edelstahl Lippendorf GmbH, BGH Edelstahl Lugau GmbH, and BGH Edelstahl Siegen GmbH (collectively, “BGH”) submitted rebuttal comments. Based on these submissions, we made changes to the margin calculation of BGH. The amended final weighted-average dumping margin for BGH is listed below in the section entitled “Amended Final Results.”

¹ See Stainless Steel Bar from Germany: Final Results of Antidumping Duty Administrative Review, 71 FR 42802 (July 28, 2006) (“Final Results”).

Scope of the Order

For the purposes of the order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Amended Final Results

After analyzing the submissions, we have determined in accordance with section 735(e) of the Tariff Act of 1930, as amended (“the Act”) and 19 CFR 351.224 that we made ministerial errors in the margin calculation for BGH. The ministerial errors affected the U.S. credit expense calculation. These errors were: 1) the Department did not recalculate the credit expense after revising the payment date for some U.S. sales, 2) the Department incorrectly used a U.S. dollar interest rate on U.S. sales that were made in euros, and 3) the Department's programming language did not properly apply the revised U.S. interest rate to all U.S. sales made in U.S. dollars.

For a detailed discussion of the ministerial error allegations and the Department's analysis, see Memorandum from Team through Susan H. Kuhbach to Stephen J. Claeys, Deputy Assistant Secretary for Import Administration, entitled “Ministerial Error Allegations,” dated August 28, 2006.

We are amending the final determination of the antidumping duty administrative review of stainless steel bar from Germany to reflect the correction of the above-cited ministerial errors. As a result of corrections of the ministerial errors in the Final Results, the revised final weighted-average dumping margin is as follows:

Exporter/manufacturer | Original weighted-average margin percentage | Revised weighted-average margin percentage
BGH Edelstahl Freital GmbH, BGH Edelstahl Lippendorf GmbH, BGH Edelstahl Lugau GmbH, and BGH Edelstahl Siegen GmbH | 0.62 percent | 0.73 percent

Assessment Rates

The Department shall determine, and U.S. Customs and Border Protection (“CBP”) shall assess, antidumping duties on all appropriate entries. In accordance with 19 CFR 351.212(b)(1), we have calculated exporter/importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer).

The Department clarified its “automatic assessment” regulation on May 6, 2003, (68 FR 23954). This clarification will apply to entries of subject merchandise during the period of review produced by companies included in these final results of review for which the reviewed companies did not know their merchandise was destined for the United States. In such instances, we will instruct CBP to liquidate unreviewed entries at the all-others rate if there is no rate for the intermediate company involved in the transaction. For a full discussion of this clarification, see Antidumping and Countervailing Duty Proceedings: Assessment of Antidumping Duties, 68 FR 23954 (May 6, 2003).

The Department will issue appropriate assessment instructions directly to CBP within 15 days of publication of these amended final results of review.

Cash Deposit Rates

The following antidumping duty deposits will be required on all shipments of stainless steel bar from Germany entered, or withdrawn from warehouse, for consumption, effective on or after the publication date of the amended final results of this administrative review, as provided by section 751(a)(1) of the Act: (1) the cash deposit rate for the reviewed company will be the rate listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 16.96 percent, the “all others” rate established in Notice of Final Determination of Sales at Less Than Fair Value: Stainless Steel Bar from Germany, 67 FR 3159 (January 23, 2002) and Notice of Amended Final Determination of Sales at Less Than Fair Value and Antidumping Duty Order: Stainless Steel Bar from Germany, 67 FR 10382 (March 7, 2002).

These cash deposit requirements shall remain in effect until publication of the final results of the next administrative review.

We are issuing and publishing these results and this notice in accordance with section 751(h) of the Act and 19 CFR 351.224(e).

Dated: August 28, 2006.
David M. Spooner,
Assistant Secretary for Import Administration.

[FR Doc. E6-14533 Filed 8-31-06; 8:45 am]

BILLING CODE 3510-DS-S